DEPARTMENT OF TRANSPORTATION

Office of the Secretary

Aviation Proceedings, Agreements Filed During the Week Ending May 26, 2000

The following Agreements were filed with the Department of Transportation under the provisions of 49 U.S.C. sections 412 and 414. Answers may be filed within 21 days after the filing of the application.

Docket Number: OST-2000-7405

Date Filed: May 23, 2000

Parties: Members of the International Air Transport Association

Subject:

CTC COMP 0280 dated 23 May 2000

Expedited Composite Resolution 506

Special Surcharge Resolution from Japan

(Except USA/US Territories)

Intended effective date: 1 July 2000

Docket Number: OST-2000-7406

Date Filed: May 23, 2000

Parties: Members of the International Air Transport Association

Subject:

CTC COMP 0281 dated 23 May 2000

Expedited Composite Resolution 506

Special Surcharge Resolution from Japan

(USA/US Territories)

Intended effective date: 1 July 2000

Dorothy Y. Beard,
Federal Register Liaison.

[FR Doc. 00-14880 Filed 6-12-00; 8:45 am]

BILLING CODE 4910-62-P